ENVIRONMENTAL PROTECTION AGENCY

40 CFR Part 52

[EPA-R05-OAR-2017-0583; EPA-R05-OAR-2019-0311; EPA-R05-OAR-2020-0501; FRL-9056-04-R5]

Air Plan Approval; Illinois; Infrastructure SIP Requirements for the 2012 PM2.5 and 2015 Ozone NAAQS

AGENCY: Environmental Protection Agency (EPA).

ACTION: Final rule.

SUMMARY: The Environmental Protection Agency (EPA) is approving elements of a State Implementation Plan (SIP) revision submitted by the State of Illinois regarding the infrastructure requirements of section 110 of the Clean Air Act (CAA) for the 2012 annual fine particulate matter (PM2.5) and 2015 ozone National Ambient Air Quality Standards (NAAQS). Further, EPA is approving the infrastructure requirements related to Prevention of Significant Deterioration (PSD) for previous NAAQS. The infrastructure requirements are designed to ensure that the structural components of each state's air quality management program are adequate to meet the state's responsibilities under the CAA. EPA received comments on its September 29, 2021, proposed rule and withdrew the accompanying Direct Final Rule (DFR). After considering the comments, EPA is approving the revisions to the Illinois SIP as requested by the State on September 29, 2017, May 16, 2019, and September 22, 2020.

DATES: This final rule is effective on May 9, 2022.

ADDRESSES: EPA has established dockets for this action under Docket ID No. EPA-R05-OAR-2017-0583 (for PM2.5), EPA-R05-OAR-2019-0311 (for ozone), and EPA-R05-OAR-2020-0501 (for PSD) at https://www.regulations.gov. Although listed in the index, some information is not publicly available, i.e., Confidential Business Information (CBI) or other information whose disclosure is restricted by statute. Certain other material, such as copyrighted material, is not placed on the internet and will be publicly available only in hard copy form. Publicly available docket materials are available either through www.regulations.gov or at the Environmental Protection Agency, Region 5, Air and Radiation Division, 77 West Jackson Boulevard, Chicago, Illinois 60604. This facility is open from 8:30 a.m. to 4:30 p.m., Monday through Friday, excluding Federal holidays and facility closures due to COVID-19. We recommend that you telephone Olivia Davidson, Environmental Scientist, at (312) 886-0266 before visiting the Region 5 office.

FOR FURTHER INFORMATION CONTACT: Olivia Davidson, Environmental Scientist, Attainment Planning and Maintenance Section, Air Programs Branch (AR18J), Environmental Protection Agency, Region 5, 77 West Jackson Boulevard, Chicago, Illinois 60604, (312) 886-0266, davidson.olivia@epa.gov.

SUPPLEMENTARY INFORMATION: Throughout this document whenever “we,” “us,” or “our” is used, we mean EPA.

I. Background

On September 29, 2021 (86 FR 53872), EPA published a DFR approving elements of infrastructure SIP revisions submitted by the Illinois Environmental Protection Agency (IEPA) on September 29, 2017, May 16, 2019, and September 22, 2020, to address the infrastructure requirements of CAA sections 110(a)(1) and (2) for the 2012 PM2.5 and 2015 ozone NAAQS, respectively. In the DFR, EPA also approved the infrastructure requirements related to Prevention of Significant Deterioration (PSD) ¹ for 1997 ozone, 1997 PM2.5, 2006 PM2.5, 2008 ozone, 2008 lead, 2010 Nitrogen Dioxide (NO2), and 2010 Sulfur Dioxide (SO2) NAAQS. An explanation of the CAA requirements, a detailed analysis of the SIP submission, and EPA's reasons for proposing approval were provided in the DFR and will not be restated here.

¹ Previously, PSD permits in Illinois have been issued under a Federal Implementation Plan (FIP). Since April 7, 1980, IEPA has issued PSD permits under a delegation agreement with EPA that authorizes IEPA to implement the FIP (January 29, 1981, 46 FR 9580). Under a November 16, 1981 amendment to the 1980 Delegation Agreement, IEPA also had the authority to amend or revise any PSD permit issued by EPA under the FIP. See 86 FR 22372, 22373 (April 28, 2021). On September 22, 2020, IEPA submitted to EPA a request to revise the Illinois SIP to establish a SIP-approved PSD program in Illinois, which was approved on September 9, 2021 (86 FR 50459), and addressed comments received during EPA's public comment period.

In the DFR, EPA stated that if adverse comments were received by October 29, 2021, the rule would be withdrawn and not take effect. On October 27, 2021, EPA received one set of adverse comments and, as a result, revised its regulations on January 18, 2022 (87 FR 2554), because EPA was unable to withdraw the DFR before it took effect. EPA is addressing the comments in this final action based upon the notice of proposed rulemaking (NPRM) also published on September 29, 2021. See 86 FR 53915.

II. EPA's Response to Comments

A summary of the comments, and EPA's response, is provided below.

Comment: The commenters state that EPA should not have used a DFR for this action because EPA did not have good cause under 5 U.S.C. to forgo normal notice-and-comment procedures (i.e., publishing an NPRM and accepting comments 30 days before the rule's effective date), because EPA allegedly did not find that compliance with the 30-day requirement was either “impracticable, unnecessary, or contrary to the public interest,” nor did EPA incorporate such a finding “and a brief statement of the reasons therefor” in the DFR. 5 U.S.C. 553(b)(B). In the DFR, EPA stated that this action was a “noncontroversial amendment” to the existing Illinois SIP and that it anticipated no adverse comments. The commenters argue that these statements fail to satisfy the good cause exemption under 5 U.S.C. 553. The commenters assert that infrastructure SIP actions, even when the public fails to comment, are not necessarily “noncontroversial,” because such actions involve detailed reviews and have been subject to litigation. For this reason, the commenters argue EPA should never use DFRs to approve an infrastructure SIP submission. The commenters encourage EPA to commence a separate rulemaking to govern its use of DFRs.

Response: EPA disagrees that it was inappropriate to use a DFR for this infrastructure SIP action. Since September 1981, EPA has used DFRs for SIP actions that are noncontroversial and where it reasonably expects no adverse public comments.² These actions have included approvals of infrastructure SIP submittals.³ EPA's current procedure for these types of actions, as described in the DFR,⁴ has been to publish a DFR for the SIP action and at the same time commence a conventional rulemaking proceeding for the same rule by publishing a NPRM.⁵ If EPA receives adverse comments within 30 days after publishing the DFR, it withdraws the DFR by publishing a withdrawal action in the Federal Register; the substance of the DFR then serves as the detailed basis for the NPRM, and EPA addresses the adverse comments in the final rule. EPA believes this approach “can save time and resources while maintaining the public's right to comment.” ⁶

² See 46 FR 44476, 44477 (Sept. 4, 1981) (“Because of the straightforward nature of some actions or the narrowness of their scope, many SIP revisions get few, if any, comments from the public during the comment period.”); 47 FR 27073, 27074 (June 23, 1982) (“as part of EPA's new SIP processing program, a SIP revision that is judged by EPA to be noncontroversial and where no adverse public comments are anticipated, will be published as a final rulemaking without first going through a proposed rulemaking phase”); 59 FR 24054, 24054 (May 10, 1994) (actions that are noncontroversial, and where no adverse public comment is anticipated, “do not have to be limited to trivial administrative changes”). See also Ronald M. Levin, Direct Final Rulemaking, 64 Geo. Wash. L. Rev. 1, 4-6 (1995); Memorandum from Leslye Fraser, Asst. Gen. Counsel, U.S. EPA, Guidance on Direct Final Rulemaking (Oct. 29, 1998), available at https://cfpub.epa.gov/oarwebadmin/sipman/sipman/mAppContent.cfm?chap=99&OtherFile=appendix/dfrguide&RequestTimeOut=500 (actions that are noncontroversial and for which EPA expects no adverse comment “generally include non-controversial amendments, non-controversial rulemakings, and routine or minor actions”).

³ For recent examples, see 85 FR 14578 (March 13, 2020) and 82 FR 43848 (September 20, 2017).

⁴ 86 FR 53880 (September 29, 2021).

⁵ For EPA's description of this procedure, see 59 FR at 24054 (May 10, 1994) and Fraser, supra note 2. See also 47 FR 27074 (June 23, 1982) (requiring EPA to state in DFRs for SIP revisions that “no comments are anticipated and that, unless notice is received within 30 days that someone wishes to submit adverse or critical comments, the rulemaking will be effective 60 days from the date the notice is published”).

⁶ 46 FR 44777 (September 8, 1981).

EPA viewed Illinois' infrastructure SIP submissions for these specific NAAQS as noncontroversial and anticipated no adverse comment for two reasons. First, EPA believed that Illinois' SIP submissions for these NAAQS straightforwardly met the relevant CAA infrastructure SIP requirements. Second, IEPA in its own state level rulemaking process to develop the infrastructure SIP submissions held 30-day periods for the public to comment on or to submit public hearing requests for the 2012 PM2.5 and 2015 ozone NAAQS (on June 23, 2017 and November 16, 2018, respectively), but IEPA received no requests for a public hearing during the comment periods and no comments on the portions of the Illinois submission addressed in the DFR.⁷ The DFR included these details on the state level actions.⁸ Because IEPA received no comments on the portions of Illinois' submissions on which EPA is acting during its own public comment periods, EPA did not believe the proposed SIP revision was controversial and expected no public comments for this action.

⁷ Illinois' September 22, 2020, submittal also requested a SIP revision to establish a SIP-approved PSD program in Illinois. EPA approved the PSD permitting program on September 9, 2021 (86 FR 50459). In the final rule, EPA responded to adverse comments received during the public comment period for its proposed approval of Illinois' PSD program. Further, IEPA received comments on section 110(a)(2)(D)(i)(I) Prongs 1 and 2 pertaining to interstate transport requirements, of which EPA disapproved on February 22, 2022 (87 FR 9838).

⁸ 86 FR at 53873.

As the commenters point out, and consistent with Agency policy, EPA made a brief statement in the DFR that it viewed the action as a noncontroversial SIP amendment and anticipated no adverse comments.⁹ In response to the adverse comments, EPA removed the DFR and is addressing the comments in this rule. As the NPRM and the DFR appeared on the same day in the Federal Register (September 29, 2021), EPA's procedure preserved the public's opportunity to comment on this action.

⁹ Id. at 53880. Nearly identical statements appear in recent DFRs, supra n.3. See 85 FR at 14584 (March 13, 2020); 82 FR at 43849 (September 20, 2017). They are all consistent with the guidance in the Fraser Memorandum, supra n.2.

Comment: The commenters argue that the EPA's proposed approval of Illinois' submittal, which considered the 2021 Annual Air Monitoring Network Plan (the “plan”) for satisfaction of CAA section 110(a)(2)(B), should have considered the 2022 plan.

Response: EPA disagrees that approval of the monitoring plan requirements of CAA section 110(a)(2)(B) cannot be finalized without approval of the 2022 plan. At the time of the proposal, EPA was still in the process of reviewing the 2022 plan. The 2021 plan was the most recently approved plan, and hence was the correct plan to reference for satisfaction of CAA section 110(a)(2)(B). As the commenters suggest, EPA was working with IEPA to establish a lead monitor location for approval as part of the 2022 plan, but this change would not affect the ability of the State to monitor PM2.5 and ozone; in fact, the number of ozone and PM2.5 monitors will not change under the 2022 plan.¹⁰ Further, IEPA's submittal satisfies other requirements of CAA section 110(a)(2)(B) as discussed in the proposal. To fulfill monitoring network obligations, the submission must demonstrate that the state: (i) Monitors air quality at appropriate locations throughout the state using EPA-approved Federal Reference Method or Federal Equivalent Method monitors; (ii) submits data to EPA's Air Quality System in a timely manner; and (iii) provides EPA Regional Offices with prior notification of any planned changes to monitoring sites or the network plan.¹¹ All of the above elements are met by IEPA's submittal. Therefore, EPA continues to find that Illinois has met the infrastructure SIP requirements of CAA section 110(a)(2)(B) with respect to the 2012 PM2.5 and 2015 ozone NAAQS.

¹⁰ The 2022 plan is available on IEPA's website and was available for public comment in July 2021. The 2022 plan has since been approved by EPA as of December 21, 2021.

¹¹ See generally, 40 CFR part 58.

Comment: Lastly, the commenters claim that Illinois failed to provide necessary assurances under CAA section 110(a)(2)(E) that the state will have adequate funding and personnel to carry out its approved SIP. In particular, the commenters claim that the assurances IEPA did provide are vague and limited to permitting activities. The commenters also allege that IEPA has for many years been understaffed and under-resourced to handle its existing volume of regulatory obligations.

Response: EPA disagrees that IEPA has not provided sufficient information about its funding and personnel to provide necessary assurances as required by section 110(a)(2)(E). EPA acknowledges that IEPA has had staff and funding declines over the years due to reduced legislative budget allocations, facility shutdowns that result in reduced permitting fees (particularly by large emitters such as coal-fired power plants), and other factors. However, EPA disagrees that IEPA's assurances to meet CAA section 110(a)(2)(E) are too vague and limited to permitting. In response to the commenter's concern, EPA has again evaluated the information provided concerning its funding and personnel for implementation of its SIP and has concluded that IEPA has provided necessary assurances sufficient to meet the requirements of section 110(a)(2)(E) with respect to the 2012 PM2.5 and 2015 ozone NAAQS.

While CAA section 110(a)(2)(E) requires each state to provide necessary assurances that the state will have adequate personnel, funding, and authority under state law to carry out the SIP, it does not mandate a specific methodology for EPA to use when evaluating the adequacy of resources to implement the SIP. See 76 FR 42549, 42554 (July 19, 2011). Even so, the commenters only highlight budget cuts at IEPA leading up to 2018, but do not consider increases in IEPA's revenue and budget. For instance, as discussed in IEPA's referenced submissions, Public Act 097-0095/House Bill 1297 ¹² was signed into effect in 2011 by the Illinois Governor to increase operating permit fees. More recently, EPA notes the increase in enacted funding for IEPA to $380 million in 2019, $450 million in 2020, and $514 million in 2021.¹³ Further, staff in IEPA's Bureau of Air has increased from 164 to an estimated 185 (with 194 targeted for FY 2022), and the enacted appropriation for the Bureau of Air has increased from $147,825,800 in FY 2020 to $156,808,200 in FY 2021 (with $158,536,300 proposed for FY 2022).¹⁴

¹² See Chapter 415, section 5 of the Illinois Compiled Statutes (415 ILCS 5/9.6).

¹³ See https://www2.illinois.gov/sites/budget/Pages/InteractiveBudget.aspx (last visited Feb. 1, 2022). The enacted total IEPA budget for 2021 appears to be the same figure as proposed by the Illinois Governor. See https://www2.illinois.gov/sites/budget/Documents/Budget%20Book/FY2021-Budget-Book/Fiscal-Year-2021-Operating-Budget-Book.pdf at 79.

¹⁴ See Ill. Office of Mgmt. & Budget, Exec. Office of the Governor, Ill. State Operating Budget, Fiscal Year 2022, available at https://www2.illinois.gov/sites/budget/Documents/Budget%20Book/FY2022-Budget-Book/Fiscal-Year-2022-Operating-Budget.pdf.

While the commenters expressed concern that that IEPA's statement about its current number of full-time permit engineers and the revenue stream from permit fees is unreasonably vague and can't be relied upon for SIP approval, EPA did not rely solely on this statement in evaluating Illinois' submittal with respect to funding and personnel. In addition to the budget figures cited above and other sources of funding available to the State under State statutes and rules pursuant to CAA section 110(a)(2), EPA considered IEPA's fulfillment of its obligations under the Performance Partnership Agreement with EPA.¹⁵ EPA also considered IEPA's fulfillment of its grant obligations under CAA section 105, which provides monies to help support the foundation of the state's air quality program, including air monitoring, enforcement, and SIP development. States are required to provide matching monies to receive their grant, and EPA evaluates the performance of the State each year. EPA determined in July 2021 that, as of fiscal year 2020, Illinois has satisfactorily completed its air program obligations as called for under the CAA section 105 grant, including meeting specific measures related to maintenance of an EPA-approved statewide air quality surveillance network required by section 110(a)(2)(B) of the CAA.

¹⁵ See https://www2.illinois.gov/epa/about-us/Pages/performance-partnership-agreement.aspx.

If, in the future, EPA determines that Illinois does not have adequate personnel or funding to carry out its SIP, or for any other reason fails to meet any requirement of its approved SIP, then EPA may exercise its authority pursuant to CAA sections 110(a)(2)(E), 179, or 110(k)(5) to impose sanctions and other remedies on the State as allowed by the CAA. The action that EPA is taking here does not limit EPA's authority pursuant to those CAA sections.¹⁶

¹⁶ See also, 86 FR 50459, 50462.

III. What action is EPA taking?

EPA is approving the majority of two infrastructure SIP submissions from IEPA to address the required infrastructure elements under sections 110(a)(1) and (2) for the 2012 PM2.5 and 2015 ozone NAAQS.¹⁷ The table below summarizes EPA's actions on Illinois' submittal in satisfaction of the infrastructure SIP requirements pursuant to section 110(a)(2).¹⁸ Additionally, EPA is approving Illinois' submission as meeting the infrastructure SIP requirements of sections 110(a)(2)(C), (D)(i)(II), (D)(ii), and (J) pertaining to PSD requirements with respect to the 1997 ozone, 1997 PM2.5, 2006 PM2.5, 2008 ozone, 2008 lead, 2010 NO2, and 2010 SO2 NAAQS.

¹⁷ EPA emphasizes that the recently approved PSD provisions discussed in 110(a)(2)(C), (D) and (J) are not limited to ozone and PM2.5. See Applicability of PSD requirements section in the DFR for more information on elements approved for the 1997 ozone, 2008 ozone, 2008 lead, 2010 NO2, 1997 PM2.5, 2006 PM2.5, and 2010 SO2 NAAQS. 86 FR at 53879.

¹⁸ In the time since proposed approval of this action, the portion of IEPA's submission addressing 2015 ozone transport, section 110(a)(2)(D)(i)(I) prongs 1 and 2 has been proposed for disapproval (February 22, 2022, 87 FR 9838).

Element | 2012 PM2.5 | 2015 ozone
(A)—Emission limits and other control measures | A | A
(B)—Ambient air quality monitoring/data system | A | A
(C)1—Program for enforcement of control measures | A | A
(C)2—Minor NSR | A | A
(C)3—PSD | A | A
(D)1—I Prong 1: Interstate transport—significant contribution to nonattainment | PA | PD
(D)2—I Prong 2: Interstate transport—interference with maintenance | PA | PD
(D)3—II Prong 3: Interstate transport—interference with PSD | A | A
(D)4—II Prong 4: Interstate transport—interference with visibility protection | NA | NA
(D)5—Interstate and international pollution abatement | A | A
(E)1—Adequate resources | A | A
(E)2—State board requirements | A | A
(F)—Stationary source monitoring system | A | A
(G)—Emergency powers | A | A
(H)—Future SIP revisions | A | A
(I)—Nonattainment planning requirements of part D | * | *
(J)1—Consultation with government officials | A | A
(J)2—Public notification | A | A
(J)3—PSD | A | A
(J)4—Visibility protection | * | *
(K)—Air quality modeling/data | A | A
(L)—Permitting fees | A | A
(M)—Consultation/participation by affected local entities | A | A

In the above table, the key is as follows:

A | Approve.
NA | No Action/Separate Rulemaking.
PA | Previously Approved.
PD | Previous Proposed Disapproval.
D | Disapprove.
* | Not germane to infrastructure SIPs.

IV. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

This action is subject to the Congressional Review Act, and EPA will submit a rule report to each House of the Congress and to the Comptroller General of the United States. This action is not a “major rule” as defined by 5 U.S.C. 804(2).

Under section 307(b)(1) of the CAA, petitions for judicial review of this action must be filed in the United States Court of Appeals for the appropriate circuit by June 7, 2022. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Ozone, Particulate matter, Reporting and recordkeeping requirements, Volatile organic compounds.

Dated: April 1, 2022.
Debra Shore,
Regional Administrator, Region 5.

For the reasons stated in the preamble, EPA amends 40 CFR part 52 as follows:

PART 52—APPROVAL AND PROMULGATION OF IMPLEMENTATION PLANS

1. The authority citation for part 52 continues to read as follows:

Authority: 42 U.S.C. 7401 et seq.

2. In § 52.720, the table in paragraph (e) is amended under the heading “Section 110(a)(2) Infrastructure Requirements” by:

a. Revising the entries for “1997 8-hour Ozone NAAQS Infrastructure Requirements”, “1997 PM2.5 NAAQS Infrastructure Requirements”, “2006 24-hour PM2.5 Infrastructure Requirements”, “2008 Lead Infrastructure Requirements”, “2008 Ozone NAAQS Infrastructure Requirements”, “2010 NO2 NAAQS Infrastructure Requirements”, “2010 SO2 NAAQS Infrastructure Requirements”, and “2012 PM2.5 NAAQS Infrastructure Requirements”; and

b. Adding an entry for “2015 Ozone NAAQS Infrastructure Requirements” at the end of the table.

The revisions and addition read as follows:

§ 52.720 Identification of plan.

* * * * *

(e) * * *

EPA-Approved Illinois Nonregulatory and Quasi-Regulatory Provisions
Name of SIP provision | Applicable geographic or nonattainment area | State submittal date | EPA approval date | Comments
* * * * * * *
Section 110(a)(2) Infrastructure Requirements
1997 8-hour Ozone NAAQS Infrastructure Requirements | Statewide | 12/12/2007 and 9/22/2020 | 4/8/2022, [Insert Federal Register Citation] | All CAA infrastructure elements under 110(a)(2) have been approved except (D)(i)(I) [Prongs 1 and 2]. A FIP is in place for these elements.
1997 PM2.5 NAAQS Infrastructure Requirements | Statewide | 12/12/2007 and 9/22/2020 | 4/8/2022, [Insert Federal Register Citation] | All CAA infrastructure elements under 110(a)(2) have been approved except (D)(i)(I) [Prongs 1 and 2]. A FIP is in place for these elements.
2006 24-hour PM2.5 NAAQS Infrastructure Requirements | Statewide | 8/9/2011, supplemented on 8/25/2011, 6/27/2012, 7/5/2017 and 9/22/2020 | 4/8/2022, [Insert Federal Register Citation] | All CAA infrastructure elements under 110(a)(2) have been approved except (D)(i)(I) [Prongs 1 and 2]. A FIP is in place for these elements.
2008 Lead NAAQS Infrastructure Requirements | Statewide | 12/31/2012, 7/5/2017 and 9/22/2020 | 4/8/2022, [Insert Federal Register Citation] | All CAA infrastructure elements under 110(a)(2) have been approved.
2008 Ozone NAAQS Infrastructure Requirements | Statewide | 12/31/2012, 7/5/2017 and 9/22/2020 | 4/8/2022, [Insert Federal Register Citation] | All CAA infrastructure elements under 110(a)(2) have been approved except (D)(i)(I) [Prongs 1 and 2]. A FIP is in place for these elements.
2010 NO2 NAAQS Infrastructure Requirements | Statewide | 12/31/2012, 7/5/2017 and 9/22/2020 | 4/8/2022, [Insert Federal Register Citation] | All CAA infrastructure elements under 110(a)(2) have been approved.
2010 SO2 NAAQS Infrastructure Requirements | Statewide | 12/31/2012, 7/5/2017 and 9/22/2020 | 4/8/2022, [Insert Federal Register Citation] | All CAA infrastructure elements under 110(a)(2) have been approved except (D)(i)(I) [Prongs 1 and 2], which have not yet been submitted.
2012 PM2.5 NAAQS Infrastructure Requirements | Statewide | 9/29/2017 and 9/22/2020 | 4/8/2022, [Insert Federal Register Citation] | All CAA infrastructure elements under 110(a)(2) have been approved except (D)(i)(II) Prong 4.
2015 Ozone NAAQS Infrastructure Requirements | Statewide | 5/16/2019 and 9/22/2020 | 4/8/2022, [Insert Federal Register Citation] | All CAA infrastructure elements under 110(a)(2) have been approved except (D)(i)(I) and Prong 4 of (D)(i)(II) Prong 4.
* * * * * * *

* * * * *

[FR Doc. 2022-07346 Filed 4-7-22; 8:45 am]

BILLING CODE 6560-50-P